DEPARTMENT OF VETERANS AFFAIRS

Privacy Act of 1974; Amendment of System of Records

AGENCY: Department of Veterans Affairs.

ACTION: Notice; correction.

SUMMARY: The Department of Veterans Affairs published a document in the Federal Register on April 18, 2000, to revise an existing routine use to the system of records entitled “Personnel and Accounting Pay System—VA” (27VA047) as set forth in the Federal Register 40 FR 38095 (8/26/75) and amended in 48 FR 16372 (4/15/83), 50 FR 23009 (5/30/85), 51 FR 6858 (2/26/86), 51 FR 25968 (7/17/86), 55 FR 42534 (10/19/90), 56 FR 23952 (5/24/91), 58 FR 39088 (7/21/93), 58 FR 40852 (7/30/93), 60 FR 35448 (7/7/95), 62 FR 41483 (8/1/97), and 62 FR 68362 (12/31/97). This system of records contains information on current and former salaried VA employees. Inadvertently, the proposed routine use statement was omitted. This document makes a correction by adding the proposed routine use statement. Further, the submission of written comments, suggestions, or objections to the proposed routine use statement, and the effective date of the new routine use statement are corrected.

FOR FURTHER INFORMATION CONTACT: Director, Office of Regulations Management (02D), Department of Veterans Affairs, 810 Vermont Avenue, NW., Room 1154, Washington, DC 20420, at (202) 273-8605.

Correction

In the Federal Register of April 18, 2000, in FR Doc. 00-9606, the following corrections are made:

1. On page 20851, in the second column, the first full paragraph is corrected to read:

“Interested persons are invited to submit written comments, suggestions, or objections regarding the proposed routine use of the system of records to the Director, Office of Regulations Management (02D), Department of Veterans Affairs, 810 Vermont Avenue, NW., Room 1154, Washington, DC 20420. All relevant material received before June 16, 2000 will be considered.”

2. On page 20851, in the third column, the first full paragraph is corrected to read:

“If no public comment is received during the 30-day review period allowed for public comment, or unless otherwise published in the Federal Register by VA, the new routine use statement is effective June 16, 2000.”

3. On page 20851, in the third column, following the conclusion of the preamble, add the following:

Notice of Amendment to System of Records

In the system of records identified as 27VA047, “Personnel and Accounting Pay System—VA,” as set forth in the Federal Register 40 FR 38095 (8/26/75) and amended in 48 FR 16372 (4/15/83), 50 FR 23009 (5/30/85), 51 FR 6858 (2/26/86), 51 FR 25968 (7/17/86), 55 FR 42534 (10/19/90), 56 FR 23952 (5/24/91), 58 FR 39088 (7/21/93), 58 FR 40852 (7/30/93), 60 FR 35448 (7/7/95), 62 FR 41483 (8/1/97), and 62 FR 68362 (12/31/97) the system is revised as follows:

* * * * *

Routine uses of records maintained in the system, including categories of users and the purpose of such uses:

* * * * *

28. Information from this system of records may be disclosed in response to legal processes, including interrogatories, served on the Agency in connection with garnishment proceedings against current or former VA employees under 5 U.S.C. 5520a.

* * * * *

Dated: May 10, 2000.
Thomas O. Gessel,
Director, Office of Regulations Management.

[FR Doc. 00-12325 Filed 5-16-00; 8:45 am]

BILLING CODE 8320-01-M